DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 76 FR 64953-64954 dated October 19, 2011).

This notice reflects organizational changes to the Health Resources and Services Administration. Specifically, this notice updates the functional statement for the Office of Federal Assistance Management (RJ). The update to the functional statement will better align functional responsibility with improved management and administrative efficiencies and improved alignment of current liaison functions and grant policy processes within the Office of Federal Assistance Management.

Chapter RJ—Office of Federal Assistance Management

Section RJ-10, Organization

Delete in its entirety and replace with the following:

The Office of Federal Assistance Management (RJ) is headed by the Associate Administrator, who reports directly to the Administrator, Health Resources Services Administration. The Office of Federal Assistance Management includes the following components:

(1) Office of the Associate Administrator (RJ);

(2) Division of Financial Integrity (RJ1);

(3) Division of Grants Policy (RJ2);

(4) Division of Grants Management Operations (RJ3); and

(5) Division of Independent Review (RJ4).

Section RJ-20, Functions

(1) Delete the functional statement for the Office of Federal Assistance Management (RJ) and replace in its entirety.

Office of Associate Administrator (RJ)

Provides national leadership in the administration and assurance of the financial integrity of HRSA's programs and provides oversight over all HRSA activities to ensure that HRSA's resources are being properly used and protected. Provides leadership, direction and coordination to all phases of grants policy, administration, and independent review of competitive grant applications. Specifically: (1) Serves as the Administrator's principal source for grants policy and financial integrity of HRSA programs; (2) exercises oversight over the Agency's business processes related to assistance programs; (3) facilitates, plans, directs and coordinates the administration of HRSA grant policies and operations; (4) plans, directs and carries out the grants officer functions for all of HRSA's grant programs as well as awarding official functions for various scholarship, loan and loan repayment assistance programs; and (5) directs and carries out the independent review of grant applications for all of HRSA's programs.

Division of Financial Integrity (RJ1)

(1) Coordinates agency-wide efforts addressing HHS's Program Integrity Initiative; (2) serves as the Agency's focal point for coordinating financial audits of grantees; (3) coordinates the external financial assessment of HRSA grantees and the resolution of any audit findings; (4) conducts the pre-award and post-award review of grant applicants' and grantees' accounting systems; (5) conducts ad hoc studies and reviews related to the financial integrity of the HRSA business processes related to assistance programs; (6) serves as the Agency's liaison with the Office of Inspector General (OIG) for issues related to grants; (7) coordinates the Agency's response to HHS OIG Hotline complaints reporting fraudulent fiscal activities pertaining to HRSA grant funds; and (8) establishes an assessment model for grantee oversight.

Division of Grants Policy (RJ2)

(1) Advises on Federal assistance award policy and assists in the identification and resolution of policy issues and problems; (2) analyzes, develops and implements the Agency's Federal assistance award policy; (3) coordinates the review of departmental grants and cooperative agreements policies and ensures that Agency policies and procedures are revised to reflect appropriate changes; (4) provides assistance and technical consultation to OFAM and program offices in the interpretation of laws, regulations, and policies relative to the Agency's grant and cooperative agreement programs; (5) reviews the Agency's funding opportunity announcements for compliance with statutory and legislative authorities, regulations, departmental and Agency policy, and government-wide administrative requirements, and publishes the announcements to Grants.gov; (6) serves as the Agency's Catalogue of Federal Domestic Assistance (CFDA) coordinator and as the Agency's Grants.Gov liaison; (7) coordinates the development of standardized documents and processes for the Agency related to Federal assistance award policies; and (8) reviews Agency programs for proper interpretation and timely implementation and application of grants and cooperative agreements management policies.

Division of Grants Management Operations (RJ3)

(1) Exercises the sole responsibility within HRSA for all aspects of grant and cooperative agreement receipt and award and post-award processes, and provides oversight of the management and maintenance of, and enhancements, to the electronic grant management system that enables staff to perform their day-to-day work; (2) participates in the planning, development, and implementation of policies and procedures for grants and cooperative agreements; (3) provides assistance and technical consultation to program offices and grantees in the application of laws, regulations, policies and guidelines relative to the Agency's grant and cooperative agreement programs; (4) develops standard operating procedures, methods and materials for the administration of the Agency's grants programs; (5) establishes standards and guides for grants management operations; (6) reviews grantee financial status reports and prepares reports and analyses on the grantee's use of funds; (7) provides technical assistance to applicants and grantees on financial and administrative aspects of grants projects; (8) provides data and analyses as necessary for budget planning, hearings, operational planning and management decisions; (9) participates in the development of program guidance and instructions for grant competitions; (10) oversees contracts in support of receipt of applications, records management, and grant close-out operations; and (11) supports post-award monitoring and closeout by analyzing PMS data and working with grants and program office staff.

Division of Independent Review (RJ4)

(1) Plans, directs and carries out HRSA's independent review of applications for grants and cooperative agreement funding, and assures that the process is fair, open, and competitive; (2) develops, implements, and maintains policies and procedures necessary to carry out the Agency's independent review/peer review processes; (3) provides technical assistance to independent reviewers ensuring that reviewers are aware of and comply with appropriate administrative policies and regulations; (4) provides technical advice and guidance to the Agency regarding the independent review processes; (5) coordinates and assures the development of program policies and rules relating to HRSA's extramural grant activities; and (6) provides HRSA's Offices and Bureaus with the final disposition of all reviewed applications.

Section RJ-30, Delegations of Authority

All delegations of authority and re-delegations of authority made to HRSA officials that were in effect immediately prior to this reorganization, and that are consistent with this reorganization, shall continue in effect pending further re-delegation.

This reorganization is effective upon date of signature.

Dated: December 2, 2011.
Mary K. Wakefield,
Administrator.

[FR Doc. 2011-32015 Filed 12-13-11; 8:45 am]

BILLING CODE 4165-15-P